SECURITIES AND EXCHANGE COMMISSION

[Release No. 34-61907; File No. SR-FINRA-2010-016]

Self-Regulatory Organizations; Financial Industry Regulatory Authority, Inc.; Notice of Filing and Immediate Effectiveness of Proposed Rule Change To Amend Section 4(c) of Schedule A to the FINRA By-Laws To Add a Reference to the Fees Assessed for the Series 51, 52 and 53 Examinations

April 14, 2010.

Pursuant to Section 19(b)(1) of the Securities Exchange Act of 1934 (“Act”) ¹ and Rule 19b-4 thereunder,² notice is hereby given that on April 9, 2010, Financial Industry Regulatory Authority, Inc. (“FINRA”) filed with the Securities and Exchange Commission (“SEC” or “Commission”) the proposed rule change as described in Items I, II, and III below, which Items have been prepared by FINRA. FINRA has designated the proposed rule change as “establishing or changing a due, fee or other charge” under Section 19(b)(3)(A)(ii) of the Act ³ and Rule 19b-4(f)(2) thereunder,⁴ which renders the proposal effective upon receipt of this filing by the Commission. The Commission is publishing this notice to solicit comments on the proposed rule change from interested persons.

¹ 15 U.S.C. 78s(b)(1).

² 17 CFR 240.19b-4.

³ 15 U.S.C. 78s(b)(3)(A)(ii).

⁴ 17 CFR 240.19b-4(f)(2).

I. Self-Regulatory Organization's Statement of the Terms of Substance of the Proposed Rule Change

FINRA is proposing to amend Section 4(c) of Schedule A to the FINRA By-Laws to add a reference to the fees assessed for the Series 51, Series 52 and Series 53 examinations.

The text of the proposed rule change is available on FINRA's Web site at http://www.finra.org, at the principal office of FINRA and at the Commission's Public Reference Room.

II. Self-Regulatory Organization's Statement of the Purpose of, and Statutory Basis for, the Proposed Rule Change

In its filing with the Commission, FINRA included statements concerning the purpose of and basis for the proposed rule change and discussed any comments it received on the proposed rule change. The text of these statements may be examined at the places specified in Item IV below. FINRA has prepared summaries, set forth in sections A, B, and C below, of the most significant aspects of such statements.

A. Self-Regulatory Organization's Statement of the Purpose of, and Statutory Basis for, the Proposed Rule Change

1. Purpose

The Series 51 (Municipal Fund Securities Limited Principal), Series 52 (Municipal Securities Representative), and Series 53 (Municipal Securities Principal) examinations are administered by FINRA on behalf of the Municipal Securities Rulemaking Board (“MSRB”).⁵

⁵ The MSRB develops, maintains and owns the Series 51, Series 52 and Series 53 examinations. See Exchange Act Section 15B(c)(7)(A) regarding administration of examinations for associated persons of municipal securities brokers and municipal securities [sic].

The Series 51, Series 52 and Series 53 examinations are intended to safeguard the investing public by helping to ensure that certain persons associated with municipal securities brokers and municipal securities dealers meet minimum qualifications to perform their jobs. Given this purpose, these examinations seek to measure accurately and reliably the degree to which each candidate possesses the knowledge, skills and abilities necessary to perform his or her job. Currently, the Series 51 examination is 1½ hours and consists of 60 multiple-choice questions, and the Series 52 and Series 53 examinations are each 3 hours and each consists of 200 multiple-choice questions.

FINRA proposes to amend Section 4(c) of Schedule A to the FINRA By-Laws to add a reference to the fees assessed by FINRA for administering the Series 51, Series 52 and Series 53 examinations as follows: $85 for the Series 51 examination, $95 for the Series 52 examination, and $95 for the Series 53 examination. The proposed rule change does not change the amount of the administration fee for the Series 51, Series 52 or Series 53 examination.⁶

⁶ As noted above, the MSRB develops, maintains and owns the Series 51, Series 52 and Series 53 examinations. The MSRB currently charges a $60 fee for the development of each of these examinations. See Securities Exchange Act Release No. 61023 (Nov. 18, 2009), 74 FR 61402 (Nov. 24, 2009) (Notice of Filing and Immediate Effectiveness of New Rule A-16, on Examination Fees, SR-MSRB-2009-16). As a result, the total fee currently assessed for the Series 51, Series 52 and Series 53 examination is $145, $155 and $155, respectively.

FINRA has filed the proposed rule change for immediate effectiveness. FINRA proposes to implement the proposed rule change on the date of filing of the proposed rule change.

2. Statutory Basis

FINRA believes that the proposed rule change is consistent with the provisions of Section 15A of the Act,⁷ in general, and with Section 15A(b)(5) of the Act,⁸ in particular, in that it provides for the equitable allocation of reasonable dues, fees and other charges among members and issuers and other persons using any facility or system which FINRA operates or controls. In light of FINRA's role in administering the Series 51, Series 52 and Series 53 examinations on behalf of the MSRB pursuant to Exchange Act Section 15B(c)(7)(A), FINRA believes it is appropriate to reflect the fees charged in connection with those examinations in the fee table in Schedule A to the FINRA By-Laws.

⁷ 15 U.S.C. 78o-3.

⁸ 15 U.S.C. 78o-3(b)(5).

B. Self-Regulatory Organization's Statement on Burden on Competition

FINRA does not believe that the proposed rule change will result in any burden on competition that is not necessary or appropriate in furtherance of the purposes of the Act.

C. Self-Regulatory Organization's Statement on Comments on the Proposed Rule Change Received From Members, Participants, or Others

Written comments were neither solicited nor received.

III. Date of Effectiveness of the Proposed Rule Change and Timing for Commission Action

The foregoing rule change has become effective pursuant to section 19(b)(3)(A)(ii) of the Act ⁹ and paragraph (f)(2) of Rule 19b-4 thereunder.¹⁰ At any time within 60 days of the filing of the proposed rule change, the Commission may summarily abrogate such rule change if it appears to the Commission that such action is necessary or appropriate in the public interest, for the protection of investors, or otherwise in furtherance of the purposes of the Act.

⁹ 15 U.S.C. 78s(b)(3)(A)(ii).

¹⁰ 17 CFR 240.19b-4(f)(x) [sic].

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an e-mail to rule-comments@sec.gov. Please include File Number SR-FINRA-2010-016 on the subject line.

Paper Comments

• Send paper comments in triplicate to Elizabeth M. Murphy, Secretary, Securities and Exchange Commission, 100 F Street, NE., Washington, DC 20549-1090.

All submissions should refer to File Number SR-FINRA-2010-016. This file number should be included on the subject line if e-mail is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for Web site viewing and printing in the Commission's Public Reference Room on official business days between the hours of 10 a.m. and 3 p.m. Copies of such filing also will be available for inspection and copying at the principal office of FINRA. All comments received will be posted without change; the Commission does not edit personal identifying information from submissions. You should submit only information that you wish to make available publicly. All submissions should refer to File Number SR-FINRA-2010-016 and should be submitted on or before May 13, 2010.

For the Commission, by the Division of Trading and Markets, pursuant to delegated authority.¹¹
¹¹ 17 CFR 200.30-3(a)(12).
Florence E. Harmon,
Deputy Secretary.

[FR Doc. 2010-9271 Filed 4-21-10; 8:45 am]

BILLING CODE 8011-01-P